NATIONAL SCIENCE FOUNDATION

Advisory Committee for Engineering; Notice of Meeting

In accordance with the Federal Advisory Committee Act (Pub. L. 92-463, as amended), the National Science Foundation announces the following meeting:

Name: Advisory Committee for Engineering #1170.

Date/Time: April 15, 2015: 12:30 p.m. to 6:00 p.m.; April 16, 2015: 8:30 a.m. to 12:30 p.m.

Place: National Science Foundation, 4201 Wilson Boulevard, Suite 1235, Arlington, Virginia 22230.

Type of Meeting: open.

Contact Person: Evette Rollins, National Science Foundation, 4201 Wilson Boulevard, Suite 505, Arlington, Virginia 22230; 703-292-8300.

Purpose of Meeting: To provide advice, recommendations and counsel on major goals and policies pertaining to engineering programs and activities.

Agenda:

Wednesday, April 15, 2015

• Directorate for Engineering Report

• Electrical, Communications, and Cyber Systems (ECCS) Overview

• ECCS Committee of Visitors (COV) Report

• Broadening Participation in Engineering

Thursday, April 16, 2015

• Perspectives from the Office of the Director

• Emerging Frontiers of Research and Innovation (EFRI) Overview

• EFRI Committee of Visitors (COV) Report

• Roundtable on ENG Strategic Activities and Recommendations

Dated: March 13, 2015.
Suzanne Plimpton,
Acting, Committee Management Officer.

[FR Doc. 2015-06238 Filed 3-18-15; 8:45 am]

BILLING CODE 7555-01-P